DEPARTMENT OF TRANSPORTATION

National Highway Traffic Safety Administration

49 CFR Part 572

[Docket No. NHTSA-2024-0093]

RIN 2127-AM13

Anthropomorphic Test Devices, HIII 5th Percentile Female Test Dummy; Incorporation by Reference

AGENCY: National Highway Traffic Safety Administration (NHTSA), Department of Transportation (DOT).

ACTION: Final rule; delay of effective date.

SUMMARY: This document delays until March 20, 2025, the effective date of the January 3, 2025, final rule that revised the chest jacket and spine box specifications for the Hybrid III 5th Percentile Female Test Dummy (HIII-5F) to address issues with fit and availability of the jacket and a noise artifact from the spine box.

DATES: The effective date of the rule, amending 49 CFR part 572, subpart O, published on January 3, 2025, at 90 FR 250, is delayed until March 20, 2025. The incorporation by reference of certain material listed in the rule is approved by the Director of the Federal Register as of March 20, 2025.

ADDRESSES: Correspondence related to this rule should refer to the docket number set forth above (NHTSA-2024-0093) and be submitted to regulations.gov or to the Administrator, National Highway Traffic Safety Administration, 1200 New Jersey Avenue SE, Washington, DC 20590.

FOR FURTHER INFORMATION CONTACT: For technical issues: Mr. Garry Brock, Office of Crashworthiness Standards, Telephone: (202) 366-6198; Facsimile: (202) 366-7002. For legal issues: Ms. K. Helena Sung, Office of the Chief Counsel, Telephone: (202) 366-2992, Facsimile: (202) 366-3820. The mailing address for these officials is: National Highway Traffic Safety Administration, 1200 New Jersey Avenue SE, Washington, DC 20590.

SUPPLEMENTARY INFORMATION: In accordance with the memorandum of January 20, 2025, from the President to executive departments and agencies, entitled “Regulatory Freeze Pending Review,” ¹ this action temporarily delays until March 20, 2025, the effective date of the rule entitled “Anthropomorphic Test Devices, HIII 5th Percentile Female Test Dummy; Incorporation by Reference,” published in the Federal Register on January 3, 2025, at 90 FR 250. The final rule revised chest jacket and spine box specifications to the Hybrid III 5th percentile adult female (HIII-5F) anthropomorphic test device (ATD or crash test dummy or dummy), described in 49 CFR part 572, subpart O, and used in frontal compliance crash tests and air bag static deployment tests. The rulemaking responded to the Alliance of Automobile Manufacturer's 2014 petition for rulemaking.²

¹ Available at https://www.whitehouse.gov/presidential-actions/2025/01/regulatory-freeze-pending-review/ (last accessed Jan. 22, 2025).

² Letter from Scott Schmidt, Alliance, to NHTSA (February 21, 2014). The Alliance consisted of: BMW Group; Chrysler Group LLC; Ford Motor Company; General Motors Company; Jaguar Land Rover; Mazda; Mercedes-Benz USA; Mitsubishi Motors; Porsche; Toyota; Volkswagen Group of America; and Volvo Cars.

This action is exempt from notice and comment under 5 U.S.C. 553 and is effective immediately upon publication in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication in the Federal Register.

Issued in Washington, DC, under authority delegated in 49 CFR 1.95 and 501.5.
Peter Simshauser,
Chief Counsel.

[FR Doc. 2025-02585 Filed 2-13-25; 8:45 am]

BILLING CODE P